FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collection. In accordance with the Paperwork Reduction Act of 1995 (44 U.S.C. 3506(c)(2)(A)), this notice seeks comments concerning the National Fire Academy Executive Fire Officer Program Application Form.

Supplementary Information: Public Law 93-498, Fire Prevention and Control Act of 1974, as amended (The Act), created the National Fire Academy (NFA) to advance the professional development of fire service personnel and allied professionals. The Act provides the conduct of courses and programs of training and education, to train fire services personnel with skills and knowledge that may be useful to advance their ability to prevent and control fires, including tactics and command of firefighting for fire chiefs, commanders, and administration and management of fire services.

Collection of Information

Title: National Fire Academy Executive Fire Officer Program Application For Admission.

Type of Information Collection: Extension of a currently approved collection.

OMB Number: 3067-0194.

Form Number(s): FEMA Form 95-22, National Fire Academy Executive Officer Program Application for Admission.

Abstract: The National Fire Academy Executive Fire Officer Program Application for Admission (FEMA Form 95-22) is used by respondents who are senior level (executive) fire officers to apply into the National Fire Academy's Executive Fire Officer Program. FEMA uses the application form for effective screening/selection of applicants/students.

Affected Public: State, Local or Tribal Government; Individual or Households.

FEMA Form(s): 95-22, National Fire Academy Executive Officer Program Application for Admission.

Number of Respondents: 300.

Frequency of Response: On Occasion.

Hours Per Response: 1 hour.

Estimated Total Annual Burden Hours: 300 hours.

Estimated Cost: $7,311. total cost to respondents. $1,686. total cost to the government.

Comments: Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Program Services Division, Operations Support Directorate, Federal Emergency Management Agency, 500 C Street, SW, Room 316, Washington, DC 20472.

FOR FURTHER INFORMATION CONTACT: Contact Ms. Anderson at telephone number (202) 646-2625. Facsimile number (202) 646-3524 or by email muriel.anderson@fema.gov for copies of the proposed collection of information.

Dated: April 12, 2001.
Reginald Trujillo,
Director, Program Services Division, Operations Support Directorate.

[FR Doc. 01-9841 Filed 4-19-01; 8:45 am]

BILLING CODE 6718-01-P